DEPARTMENT OF DEFENSE

Office of the Secretary

[Docket ID DOD-2008-OS-0163]

Privacy Act of 1974; System of Records

AGENCY: Office of the Secretary, DoD.

ACTION: Notice to Add a System of Records.

SUMMARY: The Office of the Secretary of Defense proposes to add a system of records to its inventory of record systems subject to the Privacy Act of 1974 (5 U.S.C. 552a), as amended.

DATES: This proposed action would be effective without further notice on January 29, 2009 unless comments are received which result in a contrary determination.

ADDRESSES: Send comments to Chief, OSD/JS Privacy Office, Freedom of Information Directorate, Washington Headquarters Services, 1155 Defense Pentagon, Washington, DC 20301-1155.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the address above.

The proposed system report, as required by 5 U.S.C. 552a(r) of the Privacy Act of 1974, as amended, was submitted on December 17, 2008, to the House Committee on Oversight and Government Reform, the Senate Committee on Governmental Affairs, and the Office of Management and Budget (OMB) pursuant to paragraph 4c of Appendix I to OMB Circular No. A-130, ‘Federal Agency Responsibilities for Maintaining Records About Individuals’, dated February 8, 1996 (February 20, 1996, 61 FR 6427).

Dated: December 18, 2008.
Morgan E. Frazier,
Alternate OSD Federal Register Liaison Officer, Department of Defense.

DHRA 06

SYSTEM NAME:

National Security Education Program Records.

SYSTEM LOCATION:

National Security Education Program, 1101 Wilson Blvd., Suite 1210, Arlington, VA 22209-2248.

Institute of International Education, 1400 K Street, 6th floor, Washington, DC 20005.

Trident Systems, Inc., 10201 Fairfax Blvd., Suite 300, Fairfax, VA 22030.

CATEGORIES OF INDIVIDUALS COVERED BY THE SYSTEM:

Individuals who apply for the following scholarships or fellowships: David L. Boren Scholarships, English for Heritage Language Speakers Scholarships, David L. Boren Fellowships, and Flagship Fellowships.

CATEGORIES OF RECORDS IN THE SYSTEM:

Information collected on the online application and an award recipient includes not limited to: Title; full name; current address, city, state, and zip code; permanent address, city, state; Social Security Number (SSN); current telephone number and permanent telephone number; e-mail address; voting district; date of birth; country or state of birth; naturalization information; educational information; region, country, and language to be studied under award; other languages spoken; proficiency in language studied at time of award; overseas experience; relevant activities; honors and awards; government agencies of interest; proposed study abroad program information and budget; other scholarship funding information; gender; ethnicity; employer name and employer address; supervisor name, title, and telephone number; position title; employment dates and hours; language used in position; security clearance held for position; award type; date of award completion; graduation date; length of service requirement; date of availability for work; information on veteran's preference, Federal employment history, and preferences with regard to being contacted by intelligence agencies; degree information; foreign language information; job history; overseas experience; other information e.g., special recognitions or memberships; special skills and qualifications; fieldwork or volunteer experience.

AUTHORITY FOR MAINTENANCE OF THE SYSTEM:

50 U.S.C. 1901 et. seq., as amended; Pub. L. 102-183, David L. Boren National Security Education Act of 1991; DoDD 1025.6, National Security Education Program; and E.O. 9397 (SSN).

PURPOSE(S):

To provide Americans with the resources and encouragement needed to acquire skills and experiences in areas of the world critical to the future security of nations in exchange for a commitment to seek work in the federal government. This will enable the National Security Education Program to select qualified applicants to be awarded National Security Education Program scholarships and fellowships.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To authorized federal hiring officials to facilitate the recruiting of National Security Education Program award recipients into federal service for the purpose of fulfilling National Security Education Program's mission.

To the Boren Forum, the non-profit National Security Education Program alumni organization to confirm the name, award year and type of award of National Security Education Program award recipients.

DISCLOSURE TO CONSUMER REPORTING AGENCIES:

Disclosures pursuant to 5 U.S.C. 552a(b)(12) may be made from this system to ‘consumer reporting agencies’ as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

The DoD “Blanket Routine Uses” apply to this system of records.

POLICIES AND PRACTICES FOR STORING, RETRIEVING, ACCESSING, RETAINING, AND DISPOSING OF RECORDS IN THE SYSTEM:

STORAGE:

Paper records in file folders and electronic storage media.

RETRIEVABILITY:

Individual's name and Social Security Number (SSN).

SAFEGUARDS:

Paper and electronic media containing information is restricted to those who require the data in the performance of their official duties. Access to information is further restricted by the use of passwords that are changed periodically. Physical entry is restricted by the use of locks, guards, and administrative procedures. Contract officers are required to incorporate all appropriate Privacy Act clauses and contractor personnel are required to sign non-disclosure documents holding them to all provisions of the Privacy Act.

RETENTION AND DISPOSAL:

Disposition pending (until the National Archives and Records Administration approves retention and disposal schedule, records will be treated as permanent).

SYSTEM MANAGER(S) AND ADDRESS:

Deputy Director, National Security Education Program, 1101 Wilson Blvd., Suite 1210, Arlington, VA 22209-2248.

NOTIFICATION PROCEDURE:

Individuals seeking to determine whether information about themselves is contained in this system of records should address written inquiries to the National Security Education Office, 1101 Wilson Blvd., Suite 1210, Arlington, VA 22209-2248.

Requests should contain the name and number of this system of records notice, individual's name, address, award year and type, Social Security Number (SSN), and must be signed.

RECORD ACCESS PROCEDURES:

Individuals seeking access to information about themselves contained in this system should address written inquiries to the OSD/JS FOIA Requester Service Center, 1155 Defense Pentagon, Washington, DC 20301-1155.

Requests should contain the name and number of this system of records notice, individual's name, address, award year and type, Social Security Number (SSN) and must be signed.

CONTESTING RECORD PROCEDURES:

The OSD rules for accessing records, for contesting contents and appealing initial agency determinations are published in OSD Administrative Instruction 81; 32 CFR part 311; or may be obtained from the system manager.

RECORD SOURCE CATEGORIES:

Individual, DD Form 2752, National Security Education Program Service Agreement For Scholarship and Fellowship Awards and DD Form 2753, National Security Education Program Service Agreement Report (SAR) for Scholarship and Fellowship.

EXEMPTIONS CLAIMED FOR THE SYSTEM:

None.

[FR Doc. E8-30875 Filed 12-29-08; 8:45 am]

BILLING CODE 5001-06-P